DEPARTMENT OF AGRICULTURE

Office of the Secretary

[Doc. # CN-04-002]

Proposal To Reestablish the Advisory Committee on Universal Cotton Standards

AGENCY: Office of the Secretary, USDA.

ACTION: Notice of intent to reestablish the Advisory Committee on Universal Cotton Standards.

SUMMARY: The U.S. Department of Agriculture (USDA) is proposing to reestablish the Advisory Committee on Universal Cotton Standards (Committee). The committee reviews official Universal Standards for American Upland cotton prepared by USDA and would make recommendations regarding the establishment or revision of the standards.

DATES: Comments must be received on or before September 24, 2004.

ADDRESSES: Interested persons are invited to submit written comments concerning this action to Norma McDill, Deputy Administrator, Cotton Program, Agricultural Marketing Services, USDA, 1400 Independence Avenue, SW., Stop 0224, Room 2641-South, Washington, DC 20250-0224. Comments should be submitted in duplicate. Comments may also be submitted electronically to: www.cottoncomments@usda.gov. All comments should reference the docket number and the date and page number of this issue of the Federal Register. All comments received will be available for public inspection during regular business hours at the Cotton Program, AMS, USDA, Room 2641-South, 1400 Independence Avenue, SW., Washington, DC. A copy of this action may be found at http://www.ams.usda.gov/cotton/rulemaking.htm.

FOR FURTHER INFORMATION CONTACT: Norma McDill, Deputy Administrator, Cotton Program, AMS, USDA, Stop 0224, 1400 Independence Ave., SW., Washington, DC 20250-0224, telephone 202-720-2145, facsimile 202-690-1718, or e-mail at norma.mcdill@usda.gov.

SUPPLEMENTARY INFORMATION: Pursuant to the Federal Advisory Committee Act (5 U.S.C. App.), notice is hereby given that the Secretary of Agriculture is considering the reestablishment of the Advisory Committee, which would be composed of foreign and domestic representatives of the cotton industry. The purpose of the committee would be to review official Universal Standards for U.S. Upland cotton prepared by USDA and make recommendations regarding the establishment or revision of the standards established under the United States Cotton Standards Act (7 U.S.C. 51 et seq.). The last Advisory Committee on Universal Standards was established June 19, 2000. The Advisory Committee's term ended in 2002.

Equal opportunity practices, in line with USDA policies, would be followed in all appointments to the committee. To ensure that the recommendations of the committee have taken into account the needs of diverse groups served by the Department, membership would include, to the extent practicable, individuals with demonstrated ability to represent minorities, women, and persons with disabilities.

Balanced committee membership would be attained domestically and internationally through the following Committee composition.

Representation by Domestic Industry

The U.S. cotton industry's committee membership would be comprised of 12 producers and ginners, 6 representative of merchandising firms, and 6 representatives of textile manufacturers. These representatives would be appointed by the Secretary of Agriculture.

Each member would have one vote. Accordingly, voting privileges will be divided as follows: (1) U.S. cotton producers and ginners—12 votes; (2) U.S. merchandising firms—6 votes; (3) U.S. textile manufacturers—6 votes.

Representation by Foreign Signatory Associations

There would be 2 committee members designated from each of the foreign signatory associations. These committee members would be designated by the respective associations. Voting privileges would be divided as follows: (1) Foreign signatory merchant associations—6 votes; (2) Foreign signatory spinner associations—6 votes.

Domestic members selected for the committee shall serve without pay, but with reimbursement of travel expenses and per diem for attendance at the committee meeting.

A thirty-day comment period is provided for interested persons to comment on this action.

Dated: August 18, 2004.
A.J. Yates,
Administrator, Agricultural Marketing Service.

[FR Doc. 04-19400 Filed 8-24-04; 8:45 am]

BILLING CODE 3410-02-U